DEPARTMENT OF DEFENSE

Department of the Army; Corps of Engineers

Withdrawal of Notice for Preparation of an Environmental Impact Statement (EIS) for the Arkansas White River Cutoff Study

AGENCY: Department of the Army, U.S. Army Corps of Engineers, DOD.

ACTION: Notice.

SUMMARY: The Little Rock District of the U.S. Army Corps of Engineers (Corps) is withdrawing its intent to prepare an Environmental Impact Statement (EIS) for the Arkansas White River Cutoff Study. The original Notice of Intent (NOI) was published in the Federal Register on June 20, 2003 (68 FR 36974). The Corps has determined that a long term solution that is economically justified and environmentally acceptable cannot be determined under current authorities and funding at this time.

FOR FURTHER INFORMATION CONTACT: Ms. Dana Coburn, Chief, Environmental Branch, Planning and Environmental Division, PO Box 867, Little Rock, Arkansas 72203-0867, Telephone 501-324-5601, e-mail: Dana.O.Coburn@usace.army.mil.

SUPPLEMENTARY INFORMATION: The purpose of the EIS was to present alternatives and assess the impacts associated with implementation of environmentally sustainable solutions for reducing head-cutting and scouring in the Ark-White Cutoff area. The two rivers are attempting to join in this area and are strongly influenced by high water in the Mississippi River. The study area included the Lower Arkansas River below Dam #2, the lower 5-10 miles of the White River in Arkansas, and any adjacent landmasses that are presently being impacted or could be potentially impacted by the alternatives. There are numerous public and private entities that have a variety of interests within the study area. Head-cutting in the study area has resulted in adverse impacts to navigation and the environment. Solutions were focused on decreasing erosion on the White River containment structure, reducing degradation of the landmass separating the White and Arkansas Rivers, and other required features to ensure navigation on the McClellan-Kerr Arkansas River Navigation System (MKARNS) is maintained. Continued Operation and Maintenance actions will proceed as usual until a more long term solution can be determined in the future.

Glen A. Masset
Colonel, EN, Commanding.

[FR Doc. 2010-20742 Filed 8-19-10; 8:45 am]

BILLING CODE 3720-58-P